DEPARTMENT OF ENERGY

Federal Energy Regulatory Commission

[Docket No. RP01-602-001]

Dominion Transmission, Inc.; Notice of Compliance Filing and Cancellation of Part 157 Service Agreements

January 10, 2002.

Take notice that on January 4, 2002, Dominion Transmission, Inc. (DTI) tendered for filing to be part of its FERC Gas Tariff, the revised tariff sheets listed below, with an effective date of January 1, 2002:

Third Revised Volume No. 1

Second Revised Sheet No. 8

Seventh Revised Sheet No. 1300

First Revised Volume No. 2

First Revised Sheet No. 7

First Revised Sheet No. 414-427

First Revised Sheet No. 469-483

DTI states that the filing is being filed in compliance with the letter order issued in the captioned proceedings on October 30, 2001.

In the letter order, the Commission approved the conversion of the individually certificated services that DTI has historically provided to Doswell Limited Partnership (Doswell) and Virginia Power Services Energy Corporation, Inc. (Virginia Power) to open access services under part 284 of the Commission's regulations. DTI explains that the Commission required DTI to advise the Commission of the effective date of the conversion and to file a tariff sheet listing the non-conforming agreements and notice of the cancellation of the individually certificated service agreements at that time.

DTI explains in its filing that the conversion of its services to Doswell and Virginia Power to part 284 service became effective on January 1, 2002.

DTI states that copies of its letter of transmittal and enclosures have been served upon DTI's customers and interested state commissions.

Any person desiring to protest said filing should file a protest with the Federal Energy Regulatory Commission, 888 First Street, NE., Washington, DC. 20426, in accordance with Section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-1077 Filed 1-15-02; 8:45 am]

BILLING CODE 6717-01-P